ENVIRONMENTAL PROTECTION AGENCY

40 CFR Part 52

[R04-OAR-2004-GA-0001-200420c; FRL-7798-7]

Approval and Promulgation of Implementation Plans; Georgia: Approval of Revisions to the State Implementation Plan; Correction

AGENCY: Environmental Protection Agency (EPA).

ACTION: Final rule; correction.

SUMMARY: The EPA published in the Federal Register of July 19, 2004 (69 FR 42880), a document concerning the Georgia Post-1999 Rate-of-Progress Plan. A volatile organic compound (VOC) motor vehicle emission budget (MVEB) of 160.68 was inadvertently stated in the July 19, 2004, document. This document corrects that error.

DATES: Effective on August 18, 2004.

FOR FURTHER INFORMATION CONTACT: Mr. Scott M. Martin, Regulatory Development Section, Air Planning Branch, Air, Pesticides and Toxics Management Division, U.S. Environmental Protection Agency, Region 4, 61 Forsyth Street, SW., Atlanta, Georgia 30303-8960. The telephone number is (404) 562-9036. Mr. Martin can also be reached via electronic mail at martin.scott@epa.gov.

SUPPLEMENTARY INFORMATION: The EPA published a document in the Federal Register of July 19, 2004, (69 FR 42880) concerning the Georgia Post-1999 Rate-of-Progress Plan. A VOC MVEB of 160.68 was inadvertently stated in the July 19, 2004, document. The last sentence of the second paragraph in the first column of page 42882 should read as follows: “The new budget for VOCs is 160.80 tons per day (tpd) and 318.24 tpd of NOX.”

List of Subjects in 40 CFR Part 52

Environmental protection, Air pollution control, Carbon monoxide, Hydrocarbons, Nitrogen dioxide, Ozone, Particulate matter, Reporting and recordkeeping requirements.

Dated: July 27, 2004.
A. Stanley Meiburg,
Acting Regional Administrator, Region 4.

[FR Doc. 04-18025 Filed 8-6-04; 8:45 am]

BILLING CODE 6560-50-P